ENVIRONMENTAL PROTECTION AGENCY

40 CFR Part 52

[EPA-R05-OAR-2005-IN-0007; FRL-8025-6]

Approval and Promulgation of Air Quality Implementation Plans; Indiana; Removal of Direct Final Rule

AGENCY: Environmental Protection Agency (EPA).

ACTION: Removal of direct final rule.

SUMMARY: Due to the receipt of an adverse comment, the EPA is removing the November 25, 2005 (70 FR 70999), direct final rule approving revisions to Indiana's sulfur dioxide (SO2) state implementation plan (SIP) for sources located in Dearborn County. These revisions to the SIP include: Revising SO2 emission limits for existing sources, making minor corrections by removing obsolete rule language, and updating information for sources listed in the rule. In the direct final rule, EPA stated that if adverse comments were submitted by December 27, 2005, the rule would be withdrawn and not take effect. On December 2, 2005, EPA received a comment. EPA believes this comment is adverse and, therefore, EPA is removing the direct final rule. EPA will address the comment in a subsequent final action based upon the proposed action also published on November 25, 2005 (70 FR 71071). EPA will not institute a second comment period on this action.

DATES: This rule is effective on January 27, 2006.

FOR FURTHER INFORMATION CONTACT: Charles Hatten, Environmental Engineer, Criteria Pollutant Section, Air Programs Branch (AR-18J), EPA, Region 5, 77 West Jackson Boulevard, Chicago, Illinois 60604, (312) 886-6031, hatten.charles@epa.gov.

List of Subjects in 40 CFR Part 52

Environmental protection, Air pollution control, Incorporation by reference, Intergovernmental relations, Sulfur dioxides.

Authority: 42 U.S.C. 7401 et seq.

Dated: January 18, 2006.
Norman Niedergang,
Acting Regional Administrator, Region 5.

Part 52, Chapter I, title 40 of the Code of Federal Regulations is amended as follows:

PART 52—[AMENDED]

1. The authority citation for part 52 continues to read as follows:

Authority: 42 U.S.C. 7401 et seq.

Subpart P—Indiana

§ 52.770 [Amended]

2. Section 52.770 is amended by removing paragraph (c)(171).

[FR Doc. 06-757 Filed 1-26-06; 8:45 am]

BILLING CODE 6560-50-P